DEPARTMENT OF STATE

[Public Notice 8080]

Notification of Contact Information Change for the Benghazi Accountability Review Board

SUMMARY: On October 1, 2012, the Department of State announced the formation of the Benghazi Accountability Review Board (ARB) in the Federal Register (FR Doc. 2012-24504). Effective November 5, 2012, the ARB will permanently change offices. The main telephone number will change to (202) 647-2316. The main fax number will change to (202) 647-3301.

Dated: October 31, 2012.
Patrick F. Kennedy,
Under Secretary of State for Management, Department of State.

[FR Doc. 2012-27189 Filed 11-6-12; 8:45 am]

BILLING CODE 4710-35-P